DEPARTMENT OF THE INTERIOR

Geological Survey

[GX23GB00UM20200; OMB Control Number 1028-0133]

Agency Information Collection Activities; Earth Mapping Resources Initiative (Earth MRI) Competitive Cooperative Agreement Program With State Geological Surveys

AGENCY: U.S. Geological Survey, Interior.

ACTION: Notice of information collection; request for comment.

SUMMARY: In accordance with the Paperwork Reduction Act of 1995 (PRA), the Office of the Secretary will seek Office of Management and Budget (OMB) approval of an extension of a previously approved information collection.

DATES: Interested persons are invited to submit comments on or before June 26, 2023.

ADDRESSES: Written comments and recommendations for the proposed clearance of a new information collection should be sent to Departmental Information Collection Clearance Officer, U.S. Department of the Interior, 1849 C Street NW, Washington, DC 20240; or by email to DOI-PRA@ios.doi.gov. Please reference OMB Control Number “1028-0133 EarthMRI” in the subject line of your comments.

FOR FURTHER INFORMATION CONTACT: To request additional information about this Information Collection Request (ICR), contact James Mosley by telephone at (703) 648-6312, or by email at jmosley@usgs.gov. Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION: In accordance with the PRA (44 U.S.C. 3501 et seq.) and 5 CFR 1320.8(d)(1), all information collections require approval. We may not conduct or sponsor, nor are you required to respond to, a collection of information unless it displays a currently valid OMB control number.

As part of our continuing effort to reduce paperwork and respondent burden, we invite the public and other Federal agencies to comment on new, proposed, revised, and continuing collections of information. This helps us assess the impact of our information collection requirements and minimize the public's reporting burden. It also helps the public understand our information collection requirements and provide the requested data in the desired format.

We are especially interested in public comment addressing the following:

(1) Whether or not the collection of information is necessary for the proper performance of the functions of the agency, including whether or not the information will have practical utility;

(2) The accuracy of our estimate of the burden for this collection of information, including the validity of the methodology and assumptions used;

(3) Ways to enhance the quality, utility, and clarity of the information to be collected; and

(4) How the agency might minimize the burden of the collection of information on those who are to respond, including through the use of appropriate automated, electronic, mechanical, or other technological collection techniques or other forms of information technology, e.g., permitting electronic submission of response.

Comments that you submit in response to this notice are a matter of public record. We will include or summarize each comment in our request to OMB to approve this ICR. Before including your address, phone number, email address, or other personally identifiable information (PII) in your comment, you should be aware that your entire comment—including your PII—may be made publicly available at any time. While you can ask us in your comment to withhold your PII from public review, we cannot guarantee that we will be able to do so.

Abstract: Public Law 117-58, Section 40201, “Earth Mapping Resources Initiative” contained in the Infrastructure Investment and Jobs Act [otherwise known as the Bipartisan Infrastructure Law (BIL)] authorizes and accelerates the mapping efforts of the Earth Mapping Resources Initiative (Earth MRI).

Earth MRI is a component of the U.S. Geological Survey (USGS) Mineral Resources Program and is a national effort to carry out the fundamental resources- and mapping mission of the USGS. The goal of Earth MRI is to modernize the surface- and subsurface geologic mapping of the United States, with a focus on identifying areas that may have the potential to contain mineral resources.

The BIL directed the USGS to accelerate efforts to carry out fundamental integrated topographic, geologic, geochemical, and geophysical mapping and provide interpretation of subsurface and above-ground (mine waste) critical-mineral resources data at a funding level of $320,000,000 annually for five years (FY2022-FY2026). The USGS developed a new competitive cooperative agreement program with the State geological surveys to support mine-waste activities authorized and funded by the BIL. State geological surveys apply for funds through an annual competitive agreement process. Individual State projects last for up to two years.

BIL Section 40201 stipulates that the USGS may enter into cooperative agreements with State geological surveys to accelerate the efforts of Earth MRI. The BIL requires the USGS to collect information necessary to ensure that cooperative-agreement funds authorized by this legislation are used in accordance with the BIL and Federal assistance requirements under 2 CFR 200. Information collected by Earth MRI as part of the consolidated workplan is described below. The USGS seeks Office of Management and Budget approval to continue to collect this information to manage and monitor cooperative agreement awards to comply with the BIL.

Title of Collection: Earth Mapping Resources Initiative (Earth MRI) Competitive Cooperative Agreement Program with State Geological Surveys.

OMB Control Number: 1028-0133.

Form Number: None.

Type of Review: Extension of an approved information collection.

Respondents/Affected Public: 25.

Responses: 73 (25 applications, 32 total six-month progress reports, and 16 final technical reports.)

Total Burden Hours: 2,076 hours.

Respondent's Obligation: Required to obtain or retain a benefit.

Frequency of Collection: On occasion.

Total Estimated Annual Nonhour Burden Cost: None.

An agency may not conduct or sponsor, nor is a person required to respond to, a collection of information unless it displays a currently valid OMB control number.

The authority for this action is the PRA (44 U.S.C. 3501 et seq.).

Sarah J. Ryker,
Associate Director for Energy and Mineral Resources, U.S. Geological Survey.

[FR Doc. 2023-08698 Filed 4-24-23; 8:45 am]

BILLING CODE 4338-11-P